DEPARTMENT OF THE INTERIOR

Bureau of Land Management

43 CFR Parts 3000, 3100, 3150, 3200, 3500, 3580, 3600, 3730, 3810, and 3830

[WO-320-1990-PO-24 1A]

RIN 1004-AC64

Oil and Gas Leasing; Geothermal Resources Leasing; Coal Management; Management of Solid Minerals Other Than Coal; Mineral Materials Disposal; and Mining Claims Under the General Mining Laws

AGENCY: Bureau of Land Management, Interior.

ACTION: Correcting amendment.

SUMMARY: This document contains a correction to the final regulations in 43 CFR parts 3000, 3100, 3150, 3200, 3500, 3580, 3600, 3730, 3810, 3830 Oil and Gas Leasing: Geothermal Resources Leasing; Coal Management; Management of Solid Minerals Other Than Coal; Mineral Materials Disposal; and Mining Claims Under the General Mining Laws, which were published in the Federal Register (70 FR 58853—58880) of October 7, 2005.

DATES: The correcting amendment is effective June 24, 2008.

FOR FURTHER INFORMATION CONTACT: Cynthia L. Ellis, Division of Regulatory Affairs, Washington, DC 202-452-5012.

SUPPLEMENTARY INFORMATION:

Background

Need for Correction

This correction is necessary because in the 2005 final regulation we inserted a new paragraph (b) in section 3602.31, without changing a subsequent cross-reference to reflect the new paragraph. The current regulations, therefore, have an inaccurate cross-reference. Inserting new paragraph (b) in the 2005 final rule without fixing the cross-reference in paragraph (d) raised the question whether an exception stated in paragraph (d) applies to volume limitations stated in paragraph (c), which was paragraph (b) before the 2005 rule inserted the new paragraph (b). This correction remedies this uncertainty.

List of Subjects

43 CFR Part 3000

Public lands—mineral resources, Reporting and recordkeeping requirements.

43 CFR Part 3100

Government contracts, Mineral royalties, Oil and gas exploration, Public lands—mineral resources, Reporting and recordkeeping requirements, Surety bonds.

43 CFR Part 3150

Administrative practice and procedure, Alaska, Oil and gas exploration, Public lands—mineral resources, Reporting and recordkeeping requirements, Surety bonds.

43 CFR Part 3200

Geothermal energy, Government contracts, Mineral royalties, Public lands—mineral resources, Reporting and recordkeeping requirements, Surety bonds.

43 CFR Part 3500

Government contracts, Hydrocarbons, Mineral royalties, Mines, Phosphate, Potassium, Public lands—mineral resources, Reporting and recordkeeping requirements, Sodium, Sulfur, Surety bonds.

43 CFR Part 3580

Government contracts, Mineral royalties, Mines, Public lands—mineral resources, Recreation and recreation areas, Surety bonds.

43 CFR Part 3600

Public lands—mineral resources, Reporting and recordkeeping requirements.

43 CFR Part 3730

Administrative practice and procedure, Mines, Public lands—mineral resources, Reporting and recordkeeping requirements, Surety bonds.

43 CFR Part 3810

Mines, Public lands—mineral resources, Reporting and recordkeeping requirements.

43 CFR Part 3830

Mineral royalties, Mines, Public lands—mineral resources, Reporting and recordkeeping requirements.

Ted R. Hudson,
Acting Division Chief, Division of Regulatory Affairs.

PART 3600—MINERAL MATERIALS DISPOSAL

1. The authority citation for part 3600 continues to read as follows:

Authority: 16 U.S.C. 3101 et seq.; 30 U.S.C. 181 et seq., 301-306, 351-359, and 601 et seq.; 31 U.S.C. 9701; 40 U.S.C. 471 et seq.; 42 U.S.C. 6508; 43 U.S.C. 1701 et seq.; and Pub. L. 97-35, 95 Stat. 357.

* * * * *

2. Revise paragraph 3602.31(d) to read as follows:

§ 3602.31 What volume limitations and fees generally apply to noncompetitive mineral materials sales?

* * * * *

(d) The volume limitations in paragraphs (a) and (c) of this section do not apply to sales in the State of Alaska that BLM determines are needed for construction, operation, maintenance, or termination of the Trans-Alaska Pipeline System or the Alaska Natural Gas Transportation System.

* * * * *

[FR Doc. E8-14215 Filed 6-23-08; 8:45 am]

BILLING CODE 4310-84-P